DEPARTMENT OF HEALTH AND HUMAN SERVICES

Food and Drug Administration

[Docket No. FDA-2024-D-5376]

Type VII Veterinary Master File for Research and Development and Risk Reviews; Draft Guidance for Industry; Reopening of the Comment Period

AGENCY: Food and Drug Administration, HHS.

ACTION: Notice of availability; reopening of the comment period.

SUMMARY: The Food and Drug Administration (FDA or the Agency) is reopening the comment period for the notice announcing the availability of a draft guidance for industry (GFI) that appeared in the Federal Register of January 7, 2025. In that notice, FDA requested comments on draft GFI #260 entitled “Type VII Veterinary Master File for Research and Development and Risk Reviews.” The Agency is taking this action in response to a request for an extension to allow interested persons additional time to submit comments before the agency begins work on the final version of the guidance.

DATES: FDA is reopening the comment period on the notice of availability published January 7, 2025 (90 FR 1143). Submit either electronic or written comments by June 9, 2025 to ensure that the Agency considers your comments on this draft guidance before it begins work on the final version of the guidance.

ADDRESSES: You may submit comments on any guidance at any time as follows:

Electronic Submissions

Submit electronic comments in the following way:

• Federal eRulemaking Portal: https://www.regulations.gov. Follow the instructions for submitting comments. Comments submitted electronically, including attachments, to https://www.regulations.gov will be posted to the docket unchanged. Because your comment will be made public, you are solely responsible for ensuring that your comment does not include any confidential information that you or a third party may not wish to be posted, such as medical information, your or anyone else's Social Security number, or confidential business information, such as a manufacturing process. Please note that if you include your name, contact information, or other information that identifies you in the body of your comments, that information will be posted on https://www.regulations.gov.

• If you want to submit a comment with confidential information that you do not wish to be made available to the public, submit the comment as a written/paper submission and in the manner detailed (see “Written/Paper Submissions” and “Instructions”).

Written/Paper Submissions

Submit written/paper submissions as follows:

• Mail/Hand Delivery/Courier (for written/paper submissions): Dockets Management Staff (HFA-305), Food and Drug Administration, 5630 Fishers Lane, Rm. 1061, Rockville, MD 20852.

• For written/paper comments submitted to the Dockets Management Staff, FDA will post your comment, as well as any attachments, except for information submitted, marked and identified, as confidential, if submitted as detailed in “Instructions.”

Instructions: All submissions received must include the Docket No. FDA-2024-D-5376 for “Type VII Veterinary Master File for Research and Development and Risk Reviews.” Received comments will be placed in the docket and, except for those submitted as “Confidential Submissions,” publicly viewable at https://www.regulations.gov or at the Dockets Management Staff between 9 a.m. and 4 p.m., Monday through Friday, 240-402-7500.

• Confidential Submissions—To submit a comment with confidential information that you do not wish to be made publicly available, submit your comments only as a written/paper submission. You should submit two copies total. One copy will include the information you claim to be confidential with a heading or cover note that states “THIS DOCUMENT CONTAINS CONFIDENTIAL INFORMATION.” The Agency will review this copy, including the claimed confidential information, in its consideration of comments. The second copy, which will have the claimed confidential information redacted/blacked out, will be available for public viewing and posted on https://www.regulations.gov. Submit both copies to the Dockets Management Staff. If you do not wish your name and contact information to be made publicly available, you can provide this information on the cover sheet and not in the body of your comments and you must identify this information as “confidential.” Any information marked as “confidential” will not be disclosed except in accordance with 21 CFR 10.20 and other applicable disclosure law. For more information about FDA's posting of comments to public dockets, see 80 FR 56469, September 18, 2015, or access the information at: https://www.govinfo.gov/content/pkg/FR-2015-09-18/pdf/2015-23389.pdf.

Docket: For access to the docket to read background documents or the electronic and written/paper comments received, go to https://www.regulations.gov and insert the docket number, found in brackets in the heading of this document, into the “Search” box and follow the prompts and/or go to the Dockets Management Staff, 5630 Fishers Lane, Rm. 1061, Rockville, MD 20852, 240-402-7500.

FOR FURTHER INFORMATION CONTACT: Lynne Boxer, Center for Veterinary Medicine, Food and Drug, Food and Drug Administration, 7500 Standish Pl., Rockville, MD 20855, 240-402-0611, lynne.boxer@fda.hhs.gov.

SUPPLEMENTARY INFORMATION: In the Federal Register of January 7, 2025, FDA published a notice announcing the availability of a draft GFI entitled “Type VII Veterinary Master File for Research and Development and Risk Reviews.” Interested persons were originally given until March 10, 2025, to comment on the draft guidance.

The Agency received a request for a 60-day extension of the comment period for the draft guidance. The requestor indicated they needed more time to complete development of comments to submit in response to the draft guidance. FDA has considered the request and is reopening the comment period for the draft guidance for 60 days until June 9, 2025. The Agency believes that a 60-day reopening of the comment period allows adequate time for interested persons to submit comments to ensure that the agency can consider the comments on this draft guidance before it begins work on the final version of the guidance.

Dated: March 28, 2025.
P. Ritu Nalubola,
Associate Commissioner for Policy.

[FR Doc. 2025-06047 Filed 4-8-25; 8:45 am]

BILLING CODE 4164-01-P